DEPARTMENT OF ENERGY

Office of Energy Efficiency and Renewable Energy

MHK Distributed and Alternate Applications Forum

AGENCY: Water Power Technologies Office, Office of Energy Efficiency and Renewable Energy, Department of Energy.

ACTION: Notice of public forum.

SUMMARY: This notice serves to announce that the Water Power Technologies Office (WPTO) within the Department of Energy (DOE) intends to hold a marine and hydrokinetic (MHK) Distributed and Alternate Applications Forum (“Forum”) in Washington, DC from December 5-7, 2017. The purpose of the Forum is to gather the latest information on potential high-priority alternative markets for MHK technologies. In order to gather as much data as possible, the Forum will bring together key representatives from potential high-priority markets, MHK technology developers and academia, along with staff from the Department of Energy and its national laboratories who have conducted some preliminary investigation of potential opportunities. This information will ultimately be used to inform WPTO activities and strategy.

DATES: DOE will host the Forum from December 5-7, 2017. Each day will run from approximately 7:15 a.m. to 7:00 p.m. DOE will be accepting any comments about the Forum through December 5.

ADDRESSES: The Forum will be held at The St. Gregory Hotel, 2033 M St. NW., Washington, DC 20024. You may submit comments or questions by email to: Alexsandra.lemke@EE.DOE.Gov.

FOR FURTHER INFORMATION CONTACT: Alexsandra Lemke, Office of Energy Efficiency and Renewable Energy, U.S. Department of Energy, 1000 Independence Ave SW., Washington, DC 20585. Telephone: (720)-648-4381. Email: Alexsandra.lemke@EE.DOE.Gov.

SUPPLEMENTARY INFORMATION:

Background

The Forum provides a premier opportunity to learn about new applications for marine energy, and how emerging technologies capturing wave and tidal power can help meet the energy needs of a variety of industries. The Forum will bring together experts in marine energy and those from ocean industries who might benefit from local, reliable energy from waves and currents. Speakers will include MHK technology developers and researchers at the forefront of marine energy generation, representatives from industries and communities where marine energy can offer the greatest economic benefit, and government leaders and regulators.

Attendees will both discuss and evaluate high-potential alternate markets for developing marine-energy technologies as well as support DOE in aligning MHK technology R&D initiatives with high-priority opportunities. The event is divided into three days, with each day focusing on distinct topics: December 5th will focus on biofuels and aquaculture (Food and Fuel), December 6th will address the potential markets for subsea sensors, autonomous underwater vehicle recharging, and subsea data centers (Sensors and Data), and December 7th will conclude with desalination of seawater and seawater mineral extraction (Water and Minerals). Participating in these sessions provides attendees the chance to give feedback and input into which markets are best suited to the different marine energy technologies, and how devices can be designed and operated to maximize their benefits for each application. As a result of this forum, the WPTO will produce a report summarizing the opportunities within potential market areas. This is an opportunity for all attendees to provide feedback and input into which markets are best suited to the different marine energy technologies, and how devices can be designed and operated to maximize their benefits for each application.

Public Participation

The event is open to the public based upon space availability. DOE will also accept public comments as described above for purposes of better understanding the marine and hydrokinetic industry along with the alternative markets to be discussed at the Forum. These comments may be submitted at Alexsandra.lemke@EE.DOE.Gov. The expiration date for public comment is December 5.

Participants should limit information and comments to those based on personal experience, individual advice, information, or facts regarding this topic. It is not the object of this session to obtain any group position or consensus from the meeting participants.

Following the meeting, a summary will be compiled by DOE and posted for public comment. For those interested in providing additional public comment, the summary will be posted at water.energy.gov.

Issued on November 8, 2017 in Washington, DC.
Alejandro Moreno,
Director, Water Power Technologies Office, Office of Energy Efficiency and Renewable Energy.

[FR Doc. 2017-24698 Filed 11-14-17; 8:45 am]

BILLING CODE 6450-01-P